DEPARTMENT OF JUSTICE

Notice of Lodging of Proposed Bankrutpcy Settlement Under the Comprehensive Environmental Response, Compensation, and Liability Act

On June 12, 2023, the Department of Justice lodged a proposed settlement Stipulation with Remington Arms Distribution Company, LLC (“Remington Arms”), with the United States Bankruptcy Court for the Northern District of Alabama in the Chapter 11 bankruptcy case captioned In re Remington Outdoor Company, Inc., et al., Case No. 20-81688-CRJ11.

In January 2021, the United States filed a Proof of Claim in this bankruptcy case alleging that Remington Arms is liable, along with others, for reimbursement of past and future costs of responses actions addressing environmental contamination at the Chemetco Superfund Site in Madison County, Illinois (the “Chemetco Site”) under section 107 of the Comprehensive Environmental Response, Compensation, and Liability Act, 42 U.S.C. 9607. The Proof of Claim seeks reimbursement of: (i) more than $3.7 million in unreimbursed past response costs that the U.S. Environmental Protection Agency (“EPA”) has incurred in connection with the Chemetco Site; and (ii) an estimated $18 million to $45 million in costs of necessary future response work at the Chemetco Site.

The proposed settlement Stipulation that the United States has lodged in the bankruptcy case would resolve the EPA Proof of Claim on agreed terms and conditions. If approved by the bankruptcy court, it would grant EPA a $1.275 million allowed general unsecured claim against Remington Arms that would be paid in accordance with the Court-approved Joint Chapter 11 Plan of the Debtors. As specified by the Stipulation, EPA will deposit any cash distributions it receives on account of the allowed claim into a special account established by EPA for the Chemetco Site within the Hazardous Substance Superfund, to be retained and used to conduct or finance response actions at or in connection with the Chemetco Site, or to be transferred to the Hazardous Substance Superfund.

The publication of this notice opens a period for public comment on the proposed settlement Stipulation. Comments should be addressed to the Assistant Attorney General, Environment and Natural Resources Division, and should refer to In re Remington Outdoor Company, Inc., et al., DJ Ref. No. 90-5-1-1-4516/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed settlement Stipulation may be examined and downloaded at this Justice Department website: https://www.justice.gov/enrd/consent-decrees.

We will provide a paper copy of the proposed settlement Stipulation upon written request and payment of reproduction costs. Please mail your request and payment to: Consent Decree Library, U.S. DOJ—ENRD, P.O. Box 7611, Washington, DC 20044-7611.

Please enclose a check or money order for $2.00 (25 cents per page reproduction cost) payable to the United States Treasury.

Patricia A. McKenna,
Assistant Section Chief, Environmental Enforcement Section, Environment and Natural Resources Division.

[FR Doc. 2023-13025 Filed 6-16-23; 8:45 am]

BILLING CODE 4410-15-P